DEPARTMENT OF TRANSPORTATION

Research and Special Programs Administration Office of Hazardous Materials Safety

Notice of Applications for Modification of Exemption

AGENCY: Research and Special Programs Administration, DOT.

ACTION: List of applications for modification of exemption.

SUMMARY: In accordance with the procedures governing the application for, and the processing of, exemptions from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. These applications have been separated from the new applications for exemption to facilitate processing.

DATES: Comments must be received on or before September 13, 2004.

Address Comments to: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with Part 107 of the Federal hazardous materials transportation law (49 U.S.C. 5517(b); 49 CFR 1.53(b)).

Issued in Washington, DC, on August 23, 2004.
R. Ryan Posten,
Exemptions Program Officer, Office of Hazardous Materials Exemptions & Approvals.

Modification Exemptions
Application No. | Docket No. | Applicant | Regulation(s) affected | Modification of exemption | Nature of exemption therefo
8627-M |  | Nalco Energy Services, L.P., Naperville, IL | 49 CFR 173.201; 173.202; 173.203 | 8627 | To modify the exemption to authorize the transportation of additional Class 3 and Class 8 materials in non-DOT specification portable tanks manifolded together within a frame and securely mounted on a truck chassis.
8939-M |  | Hollice Clark Truck Fabrication, Inc., Odessa, TX | 49 CFR 173.201; 173.202; 173.203 | 8939 | To modify the exemption to authorize the transportation of additional Class 3 materials in non-DOT specification portable tanks manifolded together within a frame and securely mounted on a truck chassis.
9462-M |  | Aztec Metal Fabrication, Odessa, TX | 49 CFR 173.201; 173.202; 173.203 | 9462 | To modify the exemption to authorize the transportation of additional Class 3 materials in non-DOT specification portable tanks manifolded together within a frame and securely mounted on a truck chassis.
12800-M | RSPA-0110317 | U.S. Department of Energy, Germantown, MD | 49 CFR 173.411(b)(2) | 12800 | To modify the exemption to provide relief from certain marking requirements to be used on rail cars transporting certain Class 7 materials.
13282-M | RSPA-03-16054 | ConocoPhillips Alaska, Inc., Anchorage, AK | 49 CFR 173.35; 173.242(c) & (d) | 13282 | To modify the exemption to authorize the use of 55-gallon UN Standard 1H1 plastic drums for the transportation of Class 8 materials which exceed the quantity limitation when shipped by cargo aircraft only.
13552-M | RSPA-04-17541 | Astaris LLC, Lawrence, KS | 49 CFR 173.188 | 13552 | To reissue the exemption originally issued on an emergency basis for the transportation of a Division 4.2 material, under water, in alternative packaging.
13556-M | RSPA-04-17727 | Stericycle, Inc., dba Bio Systems, Inc. Lake Forest, IL | 49 CFR 172.302(c); 173.197(d) | 13556 | To reissue exemption originally issued on an emergency basis for the transportation of Division 6.2 materials in non-DOT specification rigid plastic sharps containers fitted into a custom designed wheeled rack.
13596-M |  | Honeywell International Inc., Minneapolis, MN | 49 CFR 173.301(f)(5) | 13596 | To reissue the exemption originally issued on an emergency basis for the transportation of DOT Specification 3E cylinders that are over 12 inches in length without pressure relief devices.

[FR Doc. 04-19570 Filed 8-26-04; 8:45 am]

BILLING CODE 4909-60-M